ENVIRONMENTAL PROTECTION AGENCY

[EPA-HQ-OLEM-2019-0158; FRL-9991-64-OLEM]

Agency Information Collection Activities; Proposed Collection; Comment Request; Renewal for EPA's WasteWise Program

AGENCY: Environmental Protection Agency.

ACTION: Notice.

SUMMARY: The Environmental Protection Agency (EPA) is planning to submit the information collection request (ICR) for EPA's WasteWise Program (EPA ICR No. 1698.10, OMB Control No. 2050-0139) to the Office of Management and Budget (OMB) for review and approval in accordance with the Paperwork Reduction Act (PRA). Before doing so, the EPA is soliciting public comments on specific aspects of the proposed information collection as described below. This is a proposed extension of the ICR, which is currently approved through June 30, 2019. An Agency may not conduct, or sponsor and a person is not required to respond to a collection of information unless it displays a currently valid OMB control number.

DATES: Comments must be submitted on or before June 2, 2019.

ADDRESSES: Submit your comments, referencing by Docket ID No. EPA-HQ-OLEM-2019-0158, online using www.regulations.gov (our preferred method), by email to rcra-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Kent Foerster, Office of Resource Conservation and Recovery (mail code 5306P), Environmental Protection Agency, 1200 Pennsylvania Ave. NW, Washington, DC 20460; telephone number: 703-308-0199; fax number: 703-308-8686; email address: foerster.kent@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, the EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. The EPA will consider the comments received and amend the ICR as appropriate. The final ICR package will then be submitted to OMB for review and approval. At that time, the EPA will issue another Federal Register notice to announce the submission of the ICR to OMB and the opportunity to submit additional comments to OMB.

Abstract: This is a renewal for reporting and recording keeping requirements under EPA's WasteWise program. WasteWise is a voluntary partnership with organizations to prevent and recycle multiple materials from municipal solid wastes (e.g., paper, aluminum cans; plastic and glass bottles; food wastes: etc.). Under this program, participants agree to set waste reduction goals and take specified actions to reduce multiple waste streams. In addition, under WasteWise, EPA has issued specific material or sector-based challenges. Currently these challenges focus on food recovery, electronics, and State related waste and material management efforts. A separate Federal Green Challenge targets the federal sector but is not part of this ICR. Participants use a web-based online database system containing integrated platforms with automated forms to register for participation; set goals; and report their waste reduction achievements on an annual basis.

Form numbers: None.

Respondents/affected entities: Business and other for-profit and not-for-profit organizations, as well as Federal/State/Local and Tribal governments.

Respondent's obligation to respond: Voluntary (RCRA sections 1003 and 4001).

Estimated number of respondents: During year 1 of this ICR it is estimated that 2,119 respondents will enter data into the data management system. This estimate is expected to grow to 2,329 respondents in year 3 of this ICR due to an increased enrollment by participants.

Frequency of response: Annual.

Total estimated burden: During year 1 of this ICR it is estimated that 147,348 hours respondents, 3,452 hours from EPA. By year 3, the estimated respondent hours of 164,073 and 4,152 agency hours for a total of 168,225 hours. Burden is defined at 5 CFR 1320.03(b).

Total estimated cost: For year 1, $5,766,636.45 from extra-agency participants and $436,427.30 from EPA, which includes $6,213,063.75 annualized labor costs and $0 annualized capital or O&M costs. For year 3, $5,552,371.20 for respondents and $471,827.30 in agency costs, with annualized cost of $6,024,198.50.

Changes in estimates: Annual burden hours and associated costs shown in the ICR reflect changing participation rates throughout the ICR time period, therefore any changes are documented in Supplemental Statement.

Dated: March 27, 2019.
Barnes Johnson,
Director, Office of Resource Conservation and Recovery.

[FR Doc. 2019-06482 Filed 4-2-19; 8:45 am]

BILLING CODE 6560-50-P